ENVIRONMENTAL PROTECTION AGENCY

[EPA-HQ-OARM-2018-0028; FRL-9979-95-OEI]

Information Collection Request Submitted to OMB for Review and Approval; Comment Request; Contractor Conflicts of Interest (Renewal)

AGENCY: Environmental Protection Agency (EPA).

ACTION: Notice.

SUMMARY: The Environmental Protection Agency has submitted an information collection request (ICR), “Contractor Conflicts of Interest” (EPA ICR No. 1550.11, OMB Control No. 2030-0023) to the Office of Management and Budget (OMB) for review and approval in accordance with the Paperwork Reduction Act. This is a proposed extension of the ICR, which is currently approved through June 30, 2018. Public comments were previously requested via the Federal Register on March 2, 2018 during a 60-day comment period. This notice allows for an additional 30 days for public comments. A fuller description of the ICR is given below, including its estimated burden and cost to the public. An agency may not conduct or sponsor and a person is not required to respond to a collection of information unless it displays a currently valid OMB control number.

DATES: Additional comments may be submitted on or before July 30, 2018.

ADDRESSES: Submit your comments, referencing Docket ID Number EPA-HQ-OARM-2018-0028, to (1) EPA online using www.regulations.gov (our preferred method), oei.docket@epa.gov, or by mail to: EPA Docket Center, Environmental Protection Agency, Mail Code 28221T, 1200 Pennsylvania Ave. NW, Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Pamela Leftrict, Policy, Training, and Oversight Division, Acquisition Policy and Training Service Center (3802R), Environmental Protection Agency, 1200 Pennsylvania Ave. NW, Washington, DC 20460; telephone number: 202-564-9463; email address: leftrict.pamela@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: EPA contractors are required to disclose business relationships and corporate affiliations to determine whether EPA's interests are jeopardized by such relationships. Because EPA has the dual responsibility of cleanup and enforcement and because its contractors are often involved in both activities, it is imperative that contractors are free from conflicts of interest so as not to prejudice response and enforcement actions. Contractors are required to maintain a database of business relationships and report information to EPA on either an annual basis or when each work order is issued.

Form numbers: None.

Respondents/affected entities: Businesses or organizations performing contracts for the EPA.

Respondent's obligation to respond: Required to obtain or retain benefits.

Estimated number of respondents: 45.

Frequency of response: Annually and on occasion.

Total estimated burden: 56,055 hours (per year). Burden is defined at 5 CFR 1320.03(b).

Total estimated cost: $4,139,627 (per year), which includes $0 annualized capital or operation & maintenance costs.

Changes in estimates: There is a significant reduction in expected respondents (135 to 45), burden hours (164,525 to 50,055), and costs associated with this proposed renewal package compared to the ICR currently approved by OMB. These reductions are solely a result of corrections to the ICR's burden calculations; they are not a product of modifications to the collection methodology or the actual respondent universe.

Courtney Kerwin,
Director, Regulatory Support Division.

[FR Doc. 2018-13921 Filed 6-27-18; 8:45 am]

BILLING CODE 6560-50-P